NATIONAL ARCHIVES AND RECORDS ADMINISTRATION

Privacy Act of 1974, as Amended; System of Records Notices

AGENCY: National Archives and Records Administration (NARA).

ACTION: Notice to add a new Privacy Act system of records and modify an existing system of records.

SUMMARY: The National Archives and Records Administration (NARA) proposes to add a system of records notice to its existing inventory of systems subject to the Privacy Act of 1974 (5 U.S.C. 552a), as amended. In this notice, NARA publishes NARA 37—Order Online! (NARA Online Ordering System), for comment. NARA also proposes to expand coverage in one of its existing systems, NARA 25—Order Fulfillment and Accounting System Records (OFAS), to include transmittal data received from NARA Online! (NARA Online Ordering System). Last, an obsolete reference is deleted from Appendix B, which lists NARA's system managers.

EFFECTIVE DATES: The establishment of the new system NARA 37 and changes to the existing system NARA 25 will become effective without further notice on November 20, 2003, unless comments received on or before that date cause a contrary decision. If changes are made based on NARA's review of comments received, a new final notice will be published.

ADDRESSES: Send comments to the Privacy Act Officer, Office of General Counsel (NGC), Room 3110, National Archives and Records Administration, 8601 Adelphi Road, College Park, MD, 20740-6001. You may fax your comments to 301-837-0293. You may also comment via the Internet to comments@nara.gov.

FOR FURTHER INFORMATION CONTACT: Ramona Branch Oliver, Privacy Act Officer, 301-837-2024 (voice) or 301-837-0293 (fax).

SUPPLEMENTARY INFORMATION: NARA last published a comprehensive set of Privacy Act system notices in the Federal Register on April 2, 2002 (67 FR 15592). NARA published two additional systems; NARA 35 and NARA 36, in the Federal Register on October 17, 2002 (67 FR 64142).

NARA is proposing to add NARA 37—Order Online! (NARA Online Ordering System) to its existing inventory of systems subject to the Privacy Act of 1974 (5 U.S.C. 552a), as amended. NARA 37 covers persons who order NARA products (e.g. reproductions of NARA archival materials) online. NARA is also proposing to expand coverage in one of its existing systems, NARA 25—Order Fulfillment and Accounting System Records (OFAS), to include transmittal data received from NARA Online!

The notice for each of the two systems of records states the following:

• Name and the location of the record system;

• Authority for and manner of its operation;

• Categories of individuals that it covers;

• Types of records that it contains;

• Sources of information in these records;

• Proposed “routine uses” of each system of records; and

• Business address of the NARA official who will inform interested persons of the procedures they must follow to gain access to and correct records pertaining to themselves.

Last, a reference to an obsolete NARA unit is deleted from Appendix B, which lists NARA's systems managers. Appendix A, which identifies routine uses of NARA's systems of records, remains unchanged.

One of the purposes of the Privacy Act, as stated in section 2(b)(4) of the Act, is to provide certain safeguards for an individual against an invasion of personal privacy by requiring Federal agencies to disseminate any record of identifiable personal information in a manner that assures that such action is for a necessary and lawful purpose, that information is current and accurate for its intended use, and that adequate safeguards are provided to prevent misuse of such information. NARA intends to follow these principles in transferring information to another agency or individual as a “routine use”, including assurance that the information is relevant for the purposes for which it is transferred.

Dated: October 16, 2003.
John W. Carlin,
Archivist of the United States.

Accordingly, we are publishing the proposed new system of records notice NARA 37 and the revised system of records notice NARA 25 as follows:

NARA 37

SYSTEM NAME:

Order Online! (NARA Online Ordering System).

SYSTEM LOCATION:

Order Online! is located in the data center at the National Archives and Records Administration in College Park, MD.

CATEGORIES OF INDIVIDUALS COVERED BY THE SYSTEM:

Individuals covered by this system include researchers who order reproductions of NARA archival materials at http://www.archives.gov.

CATEGORIES OF RECORDS IN THE SYSTEM:

Order Online records may include: user login data (i.e., user ID and password; User Profile Data (e.g., name, address, phone number); credit card payment data (e.g., card type, card number, expiration date); reproduction order form data (e.g., detailed information describing the requested archival record); and transaction data (e.g., system-generated order identification information such as order number, order date, order type).

AUTHORITY FOR MAINTENANCE OF THE SYSTEM:

44 U.S.C. 2116(c), 2307 and 3504.

ROUTINE USES OF RECORDS MAINTAINED IN THE SYSTEM, INCLUDING CATEGORIES OF USERS AND THE PURPOSES OF SUCH USES:

Records maintained in the system are used only for order entry, order validation, order processing, payment processing, and order fulfillment. The public may use the Order Online! system to complete and submit a reproduction order to NARA. Each night, Order Online! submissions are sent to NARA's Order Fulfillment and Accounting System (OFAS-NARA 25) via an automated XML (extensible markup language) interface that operates within NARA's secure internal network.

Order Online! maintains profile data (e.g., name, address, phone number) for researchers who initiate orders of reproductions. The profile data is used to automatically complete the payment and/or shipping address sections of the order form so that customers do not have to manually re-enter the information. Neither NARA nor its agents use Order Online! customer profile data for other purposes.

The routine use statements A, E, and F, described in Appendix A apply to this system of records. Appendix A was published in the Federal Register on April 2, 2002 (67 FR 15592).

POLICIES AND PRACTICES FOR STORING, RETRIEVING, ACCESSING, RETAINING, AND DISPOSING OF RECORDS IN THE SYSTEM:

STORAGE:

Electronic records.

RETRIEVABILITY:

Information in the Order Online! records may be retrieved by the NARA customer using his or her user ID and password. Also, summary order data (order number, master number [OFAS order number]), status (e.g., received, processing, shipped, cancelled) and submission date may be retrieved by the customer or the NARA customer service agent using the order number.

SAFEGUARDS:

Access to the data center that houses the Order Online! system is restricted to approved systems administrators and, with the exception of a limited number of operations staff, is limited to normal business hours. Electronic records are accessible only on a “need to know basis” using controlled logins and passwords from terminals located in attended offices. Credit card information is compartmentalized so that it is available only to those NARA employees responsible for posting and billing credit card transactions. The National Archives at College Park has 24-hour security guards, controlled entrances, and electronic surveillance.

RETENTION AND DISPOSAL:

Order Online! records are temporary records and are destroyed in accordance with the disposition instructions in the NARA records schedule contained in FILES 203, the NARA Files Maintenance and Records Disposition Manual. Individuals may request a copy of the disposition instructions from the NARA Privacy Act Officer.

SYSTEM MANAGER(S) AND ADDRESS:

The system manager for Order Online! records is: Assistant Archivist for Records Services—Washington, DC (NW). The address for this location is listed in Appendix B following the NARA notices.

NOTIFICATION PROCEDURE:

Individuals interested in inquiring about their records are to notify the NARA Privacy Act Officer at the address listed in Appendix B following the NARA notices.

RECORD ACCESS PROCEDURES:

Individuals who wish to gain access to their records are to submit their request in writing to the NARA Privacy Act Officer at the address listed in Appendix B.

CONTESTING RECORD PROCEDURES:

NARA rules for contesting the contents and appealing initial determinations are found in 36 CFR part 1202.

RECORD SOURCE CATEGORIES:

Information in Order Online! records is obtained from NARA customers, employees or agents who are involved in the order process, and General Services Administration (GSA) employees who process refunds.

NARA 25

SYSTEM NAME:

Order Fulfillment and Accounting System Records (OFAS).

SYSTEM LOCATION:

OFAS records are maintained in organizational units in the following Washington, DC, area locations:

• Office of Records Services—Washington, DC;

• Office of Presidential Libraries;

• Office of the Federal Register;

• Office of Regional Records Services; and

• National Archives Trust Fund Division.

CATEGORIES OF INDIVIDUALS COVERED BY THE SYSTEM:

Individuals covered by this system include: researchers who order reproductions at Washington, DC, area and regional records services facilities or online at www.archives.gov; and customers who order NARA inventory items, such as microform and printed publications, mementos, and other specialty products from catalogues and other marketing publications.

CATEGORIES OF RECORDS IN THE SYSTEM:

OFAS records may include: Catalogue order forms; other ordering forms; correspondence; copies of checks, money orders, credit card citations, and other remittances; invoices; and order and accounting information in the electronic system. These records may contain some or all of the following information about an individual: Name, address, telephone number, record(s) or item(s) ordered, and credit card or purchase order information. OFAS records also include user profile data, reproduction order form data, transaction data, and credit card payment data transmitted from Order Online! (NARA Online Ordering System—NARA 37) via an automated XML (extensible markup language) interface that operates within NARA's secure internal network.

AUTHORITY FOR MAINTENANCE OF THE SYSTEM:

44 U.S.C. 2116(c) and 2307.

ROUTINE USES OF RECORDS MAINTAINED IN THE SYSTEM, INCLUDING CATEGORIES OF USERS AND THE PURPOSES OF SUCH USES:

NARA maintains OFAS records on individuals to: receive, maintain control of, and process orders for reproductions of archival records and other fee items; bill customers for orders; maintain payment records for orders; process refunds; and provide individuals information on other NARA products.

Customer order information may be initially disclosed to a NARA agent, a bank that collects and deposits payments in a lockbox specifically used for crediting order payments to the National Archives Trust Fund. NARA may disclose certain order information to contractors acting as NARA agents that make reproductions of archival records. NARA also may disclose information in OFAS records for the processing of customer refunds to the General Services Administration (GSA), which provides NARA's financial and accounting system under a cross-servicing agreement.

The routine use statements A, E, and F, described in Appendix A apply to this system of records. Appendix A was published in the Federal Register on April 2, 2002 (67 FR 15592).

POLICIES AND PRACTICES FOR STORING, RETRIEVING, ACCESSING, RETAINING, AND DISPOSING OF RECORDS IN THE SYSTEM:

STORAGE:

Paper and electronic records.

RETRIEVABILITY:

Information in OFAS records may be retrieved by the name of the individual and/or the OFAS transaction number. The invoice number or zip code may also retrieve information in electronic records.

SAFEGUARDS:

During business hours, paper records are maintained in areas accessible only to authorized NARA personnel. Electronic records are accessible via passwords from terminals located in attended offices. Credit card information is compartmentalized so that it is available only to those NARA employees responsible for posting and billing credit card transactions. After hours, buildings have security guards and/or doors are secured and all entrances are monitored by electronic surveillance equipment.

RETENTION AND DISPOSAL:

OFAS records are temporary records and are destroyed in accordance with the disposition instructions in the NARA records schedule contained in FILES 203, the NARA Files Maintenance and Records Disposition Manual. Individuals may request a copy of the disposition instructions from the NARA Privacy Act Officer.

SYSTEM MANAGER(S) AND ADDRESS:

The system manager for OFAS records is: Assistant Archivist for Administrative Services (NA). The address for this location is listed in Appendix B following the NARA Notices.

Notification Procedure:

Individuals interested in inquiring about their records are to notify the NARA Privacy Act Officer at the address listed in Appendix B following the NARA notices.

RECORD ACCESS PROCEDURES:

Individuals who wish to gain access to their records are to submit their request in writing to the NARA Privacy Act Officer at the address listed in Appendix B.

CONTESTING RECORD PROCEDURES:

NARA rules for contesting the contents and appealing initial determinations are found in 36 CFR part 1202.

RECORD SOURCE CATEGORIES:

Information in OFAS records is obtained from customers, NARA employees or agents who are involved in the order process, and GSA employees who process refunds.

Appendix B

To inquire about your records or to gain access to your records, you should submit your request in writing to:

NARA Privacy Act Officer

Office of General Counsel (NGC)

National Archives at College Park

8601 Adelphi Road, Room

College Park, MD 20740-6001

If the system manager is the Assistant Archivist for Record Services—Washington, DC (NW), the records are located at the following address:

Office of Record Services—Washington, DC (NW)

National Archives at College Park

8601 Adelphi Road, Room 3400

College Park, MD 20740-6001

If the system manager is the director of a Presidential library, the records are located at the appropriate Presidential library, staff or project:

GEORGE BUSH LIBRARY

1000 George Bush Drive West

College Station, TX 77845

JIMMY CARTER LIBRARY

441 Freedom Parkway

Atlanta, GA 30307-1498

WILLIAM J. CLINTON PRESIDENTIAL MATERIALS PROJECT

1000 LaHarpe Boulevard

Little Rock, AR 72201

DWIGHT D. EISENHOWER LIBRARY

200 SE 4th Street

Abilene, KS 67410-2900

GERALD R. FORD LIBRARY

1000 Beal Avenue

Ann Arbor, MI 48109-2114

HERBERT HOOVER LIBRARY

210 Parkside Drive

P.O. Box 488

West Branch, IA 52358-0488

LYNDON B. JOHNSON LIBRARY

2313 Red River Street

Austin, TX 78705-5702

JOHN F. KENNEDY LIBRARY

Columbia Point

Boston, MA 02125-3398

NIXON PRESIDENTIAL MATERIALS STAFF

National Archives at College Park

8601 Adelphi Road

College Park, MD 20740-6001

RONALD REAGAN LIBRARY

40 Presidential Drive

Simi Valley, CA 93065-0600

FRANKLIN D. ROOSEVELT LIBRARY

4079 Albany Post Road

Hyde Park, NY 12538-1999

HARRY S. TRUMAN LIBRARY

500 West U.S. Highway 24

Independence, MO 64050-1798

OFFICE OF PRESIDENTIAL LIBRARIES

National Archives at College Park

8601 Adelphi Road

College Park, MD 20740-6001

If the system manager is the director of a regional records services facility, the records are located at the appropriate regional records services facility:

NARA's Pacific Alaska Region (Anchorage)

654 West Third Avenue

Anchorage, Alaska 99501-2145

NARA's Southeast Region (Atlanta)

1557 St. Joseph Avenue

East Point, Georgia 30344-2593

NARA's Northeast Region (Boston)

Frederick C. Murphy Federal Center

380 Trapelo Road

Waltham, Massachusetts 02452-6399

NARA's Great Lakes Region (Chicago)

7358 South Pulaski Road

Chicago, Illinois 60629-5898

NARA's Great Lakes Region (Dayton)

3150 Springboro Road

Dayton, Ohio 45439-1883

NARA's Rocky Mountain Region (Denver)

Bldg. 48, Denver Federal Center

West 6th Avenue and Kipling Street

Denver, Colorado 80225-0307

NARA's Southwest Region (Fort Worth)

501 West Felix Street, Building 1

Fort Worth, Texas 76115-3405

NARA's Central Plains Region (Kansas City)

2312 East Bannister Road

Kansas City, Missouri 64131-3

NARA's Pacific Region (Laguna Niguel, CA)

24000 Avila Road, 1st Floor, East Entrance

Laguna Niguel, California 92677-3497

NARA's Central Plains Region (Lee's Summit, MO)

200 Space Center Drive

Lee's Summit, Missouri 64064-1182

NARA's Northeast Region (New York City)

201 Varick Street

New York, New York 10014-4811

NARA's Mid Atlantic Region (Center City Philadelphia)

900 Market Street

Philadelphia, Pennsylvania 19107-4292

NARA's Mid Atlantic Region (Northeast Philadelphia)

14700 Townsend Road

Philadelphia, Pennsylvania 19154-1096

NARA's Northeast Region (Pittsfield, MA)

10 Conte Drive

Pittsfield, Massachusetts 01201-8230

NARA's Pacific Region (San Francisco)

1000 Commodore Drive

San Bruno, California 94066-2350

NARA's Pacific Alaska Region (Seattle)

6125 Sand Point Way NE

Seattle, Washington 98115-7999

National Personnel Records Center

Civilian Personnel Records

111 Winnebago Street

St. Louis, Missouri 63118-4126

National Personnel Records Center

Military Personnel Records

9700 Page Avenue

St. Louis, MO 63132-5100

Washington National Records Center (WNRC)

4205 Suitland Road,

Suitland, MD 20746-8001

If the system manager is the Director of the National Historical Publications and Records Commission (NHPRC), the records are located at the following address:

National Historical Publications and Records Commission (NHPRC)

National Archives and Records Administration

700 Pennsylvania Avenue, NW, Room 111

Washington, DC 20408-0001

If the system manager is the Director of the Policy and Communications Staff, the records are located at the following address:

Policy and Communications Staff (NPOL)

National Archives and Records Administration

8601 Adelphi Road, Room 4100

College Park, MD 20740-6001

If the system manager is the Assistant Archivist for Human Resources and Information Services, the records are located at the following address:

Office of Human Resources and Information Services (NH)

National Archives and Records Administration

8601 Adelphi Road, Room 4400

College Park, MD 20740

If the system manager is the Assistant Archivist for Administrative Services, the records are located at the following address:

Office of Administrative Services (NA)

National Archives and Records Administration

8601 Adelphi Road, Room 4200

College Park, MD 20740

If the system manager is the Director of the Federal Register, the records are located at the following address:

Office of the Federal Register (NF)

National Archives and Records Administration

700 Pennsylvania Avenue, NW

Washington, DC 20408-0001

If the system manager is the Inspector General, the records are located at the following address:

Office of the Inspector General (OIG)

National Archives and Records Administration

8601 Adelphi Road, Room 1300

College Park, MD 20740

If the system manager is the General Counsel, the records are located at the following address:

Office of the General Counsel (NGC)

National Archives and Records Administration

8601 Adelphi Road, Room 3110

College Park, MD 20740

[FR Doc. 03-26613 Filed 10-17-03; 9:17 am]

BILLING CODE 7515-01-P